FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011930.

Title: Crowley Liner Services-FTD Shipping Lines Space Charter and Sailing Agreement.

Parties: Crowley Liner Services and Nina (Bermuda) Ltd., d/b/a FTD Shipping Lines.

Filing Party: Michael G. Roberts, Esq.; Venable LLP; 575 7th Street, NW.; Washington, DC 20004.

Synopsis: The agreement authorizes FTD Shipping to charter space to Crowley in the trade between U.S. Atlantic and Gulf Coast ports and ports in the Dominican Republic.

Agreement No.: 011931.

Title: CMA CGM/CP Ships/Marfret Vessel Sharing Agreement.

Parties: CMA CGM, S.A./CMA CGM (UK) Limited; CP Ships (UK) Limited; Compagnie Maritime Marfret S.A.; and Hapag-Lloyd Container Linie GmbH.

Filing Party: Wayne R. Rohde, Esq.; Sher & Blackwell LLP; 1850 M Street, NW.; Suite 900; Washington, DC 20036.

Synopsis: The agreement authorizes the parties to operate and share space on a service between ports on the U.S. Atlantic Coast and ports in North Europe, the South Pacific Islands, Australia, and New Zealand. The parties request expedited review.

By order of the Federal Maritime Commission.
Dated: January 13, 2006.
Bryant L. VanBrakle,
Secretary.

[FR Doc. E6-567 Filed 1-18-06; 8:45 am]

BILLING CODE 6730-01-P